ENVIRONMENTAL PROTECTION AGENCY

[FRL-8333-2]

Establishment of the Total Coliform Rule Distribution System Advisory Committee

AGENCY: Environmental Protection Agency (EPA).

ACTION: Notice; Establishment of Federal Advisory Committee.

SUMMARY: As required by section 9(a)(2) of the Federal Advisory Committee Act, the United States Environmental Protection Agency (EPA or Agency) is giving notice that it is establishing the Total Coliform Rule Distribution System Advisory Committee (TCRDSAC). The purpose of the TCRDSAC is to provide advice and make recommendations to the Agency on revisions to the Total Coliform Rule (TCR), and on what information about distribution systems is needed to better understand the public health impact from the degradation of drinking water quality in distribution systems. EPA has determined that this Advisory Committee is in the public interest and will assist the Agency in performing its duties as directed in the 2006 EPA Appropriations Act.

For the revision effort, EPA would like the Advisory Committee to advise the Agency on how the rule could be revised to improve implementation and strengthen public health protection. For the distribution system issues, EPA would like the Committee to evaluate available data and research on aspects of distribution systems that may create risks to public health and consider how to address the risks.

TCRDSAC will be composed of approximately 16 members who will serve as representative members and regular government employees (RGE). In selecting nominees for a balanced committee, EPA will consider candidates from EPA, State and local public health and regulatory agencies; Native American tribes; large and small drinking water suppliers; consumer, environmental and public health organizations; and local elected officials.

Copies of the Committee Charter will be filed with the appropriate congressional committees and the Library of Congress.

FOR FURTHER INFORMATION CONTACT: Jini Mohanty, (Mail Code 4607M) Office of Ground Water and Drinking Water, Office of Water, 1200 Pennsylvania Avenue, NW., Washington, DC 20460, by e-mail mohanty.jini@epa.gov, or call (202) 564-5269.

Dated: June 22, 2007.
Benjamin H. Grumbles,
Assistant Administrator, Office of Water.

[FR Doc. E7-12649 Filed 6-28-07; 8:45 am]

BILLING CODE 6560-50-P